DEPARTMENT OF TRANSPORTATION

Federal Highway Administration

Notice of Final Federal Agency Actions on a Proposed Highway Project in Arizona

AGENCY: Federal Highway Administration (FHWA), DOT.

ACTION: Notice of Limitation on Claims for Judicial Review of Actions by FHWA and Other Federal Agencies.

SUMMARY: This notice announces actions taken by the Federal Highway Administration (FHWA) and other Federal agencies that are final within the meaning of 23 U.S.C. 139(l)(1). These actions relate to the proposed construction of the approximately 24-mile-long Yuma Area Service Highway, which has been designated as State Route 195 by the State Transportation Board in Arizona. This includes new roadway from the planned commercial International Port of Entry, located near San Luis, Arizona on the US/Mexico border, to Interstate 8. The alignment follows Avenue E north for about 2 miles to County 23rd Street, east on County 23rd Street for about 8 miles, north for about 9 miles within the westernmost portion of the Barry M. Goldwater Range, and continues north for about 3.5 miles between Avenue 6E and Avenue 7E to the existing Interstate 8/Araby Road Traffic Interchange. The actions being taken grant approvals for the project.

DATES: By this notice, the FHWA is advising the public of final agency actions subject to 23 U.S.C. 139(l)(1). A claim seeking judicial review of the Federal agency actions on the highway project will be barred unless the claim is filed by December 26, 2007. If the Federal law that authorizes judicial review of a claim provides a time period of less than 180 days for filing such claim, then that shorter time period still applies.

FOR FURTHER INFORMATION CONTACT: Mr. Steve Thomas, Environmental Program Manager, Federal Highway Administration, One Arizona Center, Suite 410, 400 East Van Buren Street, Phoenix, Arizona 85004-2285 weekdays 7 a.m. to 4 p.m. (Mountain Standard Time) at (602) 379-3645, extension 117, fax (602) 379-3608, steve.thomas@fhwa.dot.gov. Ms. Melissa Maiefski, Project Environmental Coordinator and Monitor, Environmental Planning Group, Arizona Department of Transportation, 1221 South 2nd Avenue, Mail Drop T100, Tucson, Arizona 85713-1602, weekdays 7 a.m. to 4 p.m. (Mountain Standard Time) at (520) 388-4250, fax (520) 388-4255, mmaiefski@azdot.gov.

SUPPLEMENTARY INFORMATION: Notice is hereby given that the FHWA and other Federal agencies have taken final agency actions by issuing approval for the proposed construction of the Yuma Area Service Highway in southwest Arizona. The highway will be approximately 24 miles in length, have two travel lanes in each direction, and generally have a right-of-way width of 240- to 280-feet with wider right-of-way at traffic interchanges. FHWA is the Federal lead agency for the Environmental Assessment, which was prepared in conjunction with the Arizona Department of Transportation and the Yuma Metropolitan Planning Organization. The Bureau of Land Management, US Bureau of Reclamation, Marine Corps Air Station Yuma, and the US Navy served as cooperating agencies. The project would facilitate existing and future travel and movement of goods between the US/Mexico border crossing and Interstate 8, remove commercial traffic and hazardous cargo from populated and congested areas, relieve existing and anticipated future congestion on US 95 through local communities, and reduce the potential for increased traffic accidents in populated areas. The actions by the Federal agencies, and the laws under which such actions were taken, are described in the Final Environmental Assessment for the project, approved on August 11, 2005, a Finding of No Significant Impact approved on May 11, 2007, and in other documents in the FHWA project files. The Final Environmental Assessment and other documents in the FHWA project files are available by contacting the FHWA or the Arizona Department of Transportation at the addresses provided above. The FHWA Final Environmental Assessment can be viewed and downloaded from the following Web site: http://www.azdot.gov/highways/EEG/DocumentsIndex.asp.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act 42 U.S.C. 7401-7671(q).

3. Water: Clean Water Act 33 U.S.C. 1251-1387.

4. Noise: Procedures for Abatement of Highway Traffic Noise and Construction Noise, 23 CFR 772.

5. Wildlife: Endangered Species Act [16 U.S.C. 1531-1544 and Section 1536]; Fish and Wildlife Coordination Act [16 U.S.C. 661-667(d)]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance and Real Property Acquisition Policies Act of 1970, as amended; Metropolitan Planning Regulations, 23 CFR 450.318.

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Section 4(f) of the US Department of Transportation Act of 1966 [49 U.S.C. 303].

10. Executive Orders: E.O. 11990 Protection of Wetlands; E.O. 11988 Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: June 19, 2007.
Robert E. Hollis,
Division Administrator, Phoenix, Arizona.

[FR Doc. 07-3166 Filed 6-28-07; 8:45 am]

BILLING CODE 4910-22-M